DEPARTMENT OF LABOR

Office of the Secretary; Submission for OMB Review; Comment Request

May 1, 2000.

The Department of Labor (DOL) has submitted the following public information collection requests (ICRs) to the Office of Management and Budget (OMB) for review and approval in accordance with the Paperwork Reduction Act of 1995 (Pub. L. 104-13, 44 U.S.C. Chapter 35). A copy of each individual ICR, with 44 U.S.C. Chapter 35). A copy of each individual ICR, with applicable supporting documentation, may be obtained by calling the Department of Labor. To obtain documentation for BLS, ETA, PWBA, and OASAM contact Karin Kurz ({202} 216-5096 ext. 159 or by E-mail to Kurz-Karin@dol.gov). To obtain documentation for ESA, MSHA, OHSA, and VETS contact Darrin King ({202} 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ({202} 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Revision of a currently approved collection.

Agency: Office of the Assistant Secretary for Administration and Management, Department Management.

Title: Customer Satisfaction Surveys and Conference Evaluations Generic Clearance.

OMB Number: 1225-0059.

Affected Public: Individuals or households; Business or other for-profit; Not-for-profit institutions; Farms; Federal government; State, Local, or Tribal government.

Total Respondents: Varies by survey/evaluation; may range from as few as 10 to over 63, 750.

Frequency: On Occasion.

Total Responses: Varies by survey/evaluation; may range from as few as 10 to over 63,750.

Average Time Per Response: Varies by survey/evaluation with an average of 9.5 minutes per survey and 2.5 minutes per evaluation.

Total Burden Hours: 13,500.

Total Burden Cost (capital/startup): $0.

Total Burden Cost (operating/maintenance): $0.

Total Annualized Capital/Startup Costs: $0.

Total Annual Costs (operating/maintaining systems of purchasing services): $0.

Description: The Department of Labor (DOL) is seeking a generic clearance for customer satisfaction surveys and conference evaluations to gather information from customers and conference attendees about the services and products provided by the Department. This is part of an ongoing process to improve DOL programs.

Ira L. Mills,
Department Clearance Officer.

[FR Doc. 00-11153 Filed 5-3-00; 8:45 am]

BILLING CODE 4510-23-M